DEPARTMENT OF ENERGY

Environmental Management Site-Specific Advisory Board, Nevada

AGENCY: Office of Environmental Management, Department of Energy.

ACTION: Notice of open in-person/virtual hybrid meeting.

SUMMARY: This notice announces an in-person/virtual hybrid meeting of the Environmental Management Site-Specific Advisory Board (EM SSAB), Nevada. The Federal Advisory Committee Act requires that public notice of this meeting be announced in the Federal Register.

DATES: Wednesday, July 21, 2021; 4:00 p.m.-7:35 p.m. PT.

The opportunity for oral public comment for those attending in-person is at 4:10 p.m. PT and written public comment received prior to the meeting will be read into the record.

This time is subject to change; please contact the Nevada Site Specific Advisory Board (NSSAB) Administrator (below) for confirmation of time prior to the meeting.

ADDRESSES: This hybrid meeting will be open to the public virtually via Microsoft Teams only. To attend, please contact the NSSAB Administrator (below) no later than 4:00 p.m. PT on Monday, July 19, 2021.

Board members, Department of Energy (DOE) representatives, agency liaisons, and support staff will participate in-person, strictly following COVID-19 precautionary measures, at: Molasky Building, 15th Floor Conference Room, 100 North City Parkway, Las Vegas, NV 89106.

FOR FURTHER INFORMATION CONTACT: Barbara Ulmer, NSSAB Administrator, by Phone: (702) 523-0894 or Email: nssab@emcbc.doe.gov.

SUPPLEMENTARY INFORMATION: Purpose of the Board: The purpose of the Board is to make recommendations to DOE-EM and site management in the areas of environmental restoration, waste management, and related activities.

Tentative Agenda:

1. Interactive Public Information website—Work Plan Item #5

2. Public Access of EM History in Nevada—Work Plan Item #7

Public Participation: The in-person/online virtual hybrid meeting is open to the public virtually via Microsoft Teams only. Written statements may be filed with the Board by no later than 4:00 p.m. PT on Monday, July 19, 2021 or within seven days after the meeting by sending them to the NSSAB Administrator at the aforementioned email address. Oral comments may be given by in-person attendees during the aforementioned time. The Deputy Designated Federal Officer is empowered to conduct the meeting in a fashion that will facilitate the orderly conduct of business. Individuals wishing to make or submit public comments should follow as directed above.

Minutes: Minutes will be available by writing or calling Barbara Ulmer, NSSAB Administrator, U.S. Department of Energy, EM Nevada Program, 100 North City Parkway, Suite 1750, Las Vegas, NV 89106; Phone: (702) 523-0894. Minutes will also be available at the following website: http://www.nnss.gov/NSSAB/pages/MM_FY21.html.

Signed in Washington, DC on June 24, 2021.
LaTanya Butler,
Deputy Committee Management Officer.

[FR Doc. 2021-13847 Filed 6-28-21; 8:45 am]

BILLING CODE 6450-01-P